CIVIL RIGHTS COMMISSION

Sunshine Act Meeting Notice

AGENCY: United States Commission on Civil Rights.

ACTION: Notice of Commission Telephonic Business Meeting.

DATES: Friday, October 12, 2018, at 10:00 a.m. EST.

ADDRESSES: Meeting to take place by telephone.

FOR FURTHER INFORMATION CONTACT: Brian Walch, phone: (202) 376-8371; TTY: (202) 376-8116; email: publicaffairs@usccr.gov.

SUPPLEMENTARY INFORMATION: This meeting is open to the public by telephone only.

Participant access instructions: Listen-only, toll-free: 1-800-682-0995; Conference ID 911-9595. Please dial in 5-10 minutes prior to the start time.

Meeting Agenda

I. Approval of Agenda

II. Business Meeting

A. Presentation by Louisiana Advisory Committee Chair on the Committee's recently released report, Barriers to Voting in Louisiana

B. Presentation by New Mexico Advisory Committee Chair on the Committee's recently released report, Elder Abuse in New Mexico

C. Presentation by Colorado Advisory Committee Member on the Committee's recently released report, Colorado Constitution's No Aid to Sectarian Institutions Clause and its Impact on Civil Rights

D. Management and Operations

• Staff Director's Report

III. Adjourn Meeting

Dated: October 3, 2018.
Brian Walch,
Director, Communications and Public Engagement.

[FR Doc. 2018-21910 Filed 10-3-18; 4:15 pm]

BILLING CODE 6335-01-P